DEPARTMENT OF HEALTH AND HUMAN SERVICES

Health Resources and Services Administration

Agency Information Collection Activities: Submission to OMB for Review and Approval; Public Comment Request; Behavioral Health Integration Evidence Based Telehealth Network Program Outcome Measures

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than July 3, 2025.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samanth Miller, the HRSA Information Collection Clearance Officer, at paperwork@hrsa.gov or call (301) 443-3983.

SUPPLEMENTARY INFORMATION: Information Collection Request Title: Behavioral Health Integration Evidence Based Telehealth Network Program Outcome Measures.

OMB No. 0906-xxxx—New

Abstract: This ICR is for OMB approval of a new information collection, the Behavioral Health Integration Evidence Based Telehealth Network Program (BHI EB-TNP) Outcome Measures. Under the BHI EB-TNP, HRSA administers cooperative agreements in accordance with section 330I(d)(1) of the Public Health Service Act (42 U.S.C. 254c-14(d)(1)). The purpose of this program is to integrate behavioral health services into primary care settings using telehealth technology through telehealth networks and evaluate the effectiveness of such integration. This program supports evidence-based projects that use telehealth technologies through telehealth networks in rural and underserved areas to: (1) improve access to integrated behavioral health services in primary care settings, and (2) expand and improve the quality of health information available to health care providers by evaluating the effectiveness of integrating telebehavioral health services into primary care settings and establishing an evidence-based model that can assist health care providers.

HRSA created a set of outcome measures that focus on behavioral health to evaluate the effectiveness of grantees' services programs and monitor their progress using performance reporting data. The estimated burden for the BHI EB-TNP Outcome Measurement Report is based on an annual data collection frequency.

A 60-day notice was published in the Federal Register on October 28, 2024, 89 FR 85545-46. There were no public comments.

Need and Proposed Use of the Information: HRSA's goals for the program are to improve access to needed services, reduce rural practitioner isolation, improve health system productivity and efficiency, and improve patient outcomes. HRSA worked with program grantees to develop outcome measures to evaluate and monitor the progress of the grantees in each of these categories, with specific indicators to be reported annually through a performance monitoring data collection platform/website. The measures will enable HRSA to capture data that illustrate the impact and scope of federal funding along with assessing these efforts. The measures are intended to inform HRSA's progress toward meeting program goals, specifically improving access to telebehavioral health services that support primary care providers. The measures cover the principal topic areas of interest to the HRSA Office for the Advancement of Telehealth, including clinical specialties, access to health care, total encounters, and patient travel miles saved.

Likely Respondents: The likely respondents are BHI EB-TNP award recipients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
BHI EB-TNP Outcome Measurement Report | 27 | 1 | 27 | 5 | 135
Total | 27 |  | 27 |  | 135

Maria G. Button,
Director, Executive Secretariat.

[FR Doc. 2025-10084 Filed 6-2-25; 8:45 am]

BILLING CODE 4165-15-P